DEPARTMENT OF THE INTERIOR

National Park Service

Notice of Inventory Completion: Denver Museum of Nature & Science, Denver, CO

AGENCY: National Park Service, Interior.

ACTION: Notice.

Notice is here given in accordance with the Native American Graves Protection and Repatriation Act (NAGPRA), 25 U.S.C. 3003, of the completion of an inventory of human remains and associated funerary objects in the control of the Denver Museum of Nature & Science, Denver, CO. The human remains and associated funerary objects were removed from Kern County, CA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains and the associated funerary objects was made by Denver Museum of Nature & Science professional staff in consultation with representatives of the Picayune Rancheria of Chukchansi Indians of California; Santa Rosa Indian Community of the Santa Rosa Rancheria, California; Table Mountain Rancheria of California; and Tule River Indian Tribe of the Tule River Reservation, California.

Sometime between 1928 and 1934, human remains representing a minimum of four individuals were removed from a burial context in the area of Buena Vista Lake, Kern County, CA. Mr. George E. Smith may have collected the human remains and associated funerary objects in 1928, while digging and privately collecting in the Buena Vista Lake vicinity, or sometime between 1933 and 1934 while Mr. Smith was working on an archeological excavation with Dr. W. D. Strong of the Smithsonian Institution at the ancient Yokuts site of Tulamniu at Buena Vista Lake. In 1951, Mary W. A. Crane and Francis V. Crane purchased the human remains and associated funerary objects from Mr. Smith's small museum in California. In 1983, the Cranes donated the human remains and the museum accessioned them into the collection that same year (DMNS catalogue numbers AC.2157A-E). No known individuals were identified. The three associated funerary objects are three stone projectile points.

Based on provenience, museum records, research, and consultation with tribal representatives, the human remains and associated funerary objects are determined to be Native American. The Buena Vista Lake vicinity and the Native American town of Tulamniu are in the territory occupied during the early Historic period by the Southern Valley Yokuts, now known as the Tule River Indian Tribe of the Tule River Reservation, California. During consultation, representatives of the Tule River Indian Tribe of the Tule River Reservation, California confirmed the historic presence of their ancestors in the Buena Vista Lake area and claimed a relationship of shared group identity with the human remains. Additionally, in consultations, and with support of anthropological evidence, tribal representatives emphasized that the Buena Vista Lake vicinity relates to the Yokut people, the ancestors of the Picayune Rancheria of Chukchansi Indians of California; Santa Rosa Indian Community of the Santa Rosa Rancheria, California; Table Mountain Rancheria of California; and Tule River Indian Tribe of the Tule River Reservation, California. These tribes confirmed the historic presence of their ancestors in the Buena Vista Lake area and claim a relationship of shared group identity with the human remains.

Officials of the Denver Museum of Nature & Science have determined that, pursuant to 25 U.S.C. 3001 (9-10), the human remains described above represent the physical remains of four individuals of Native American ancestry. Officials of the Denver Museum of Nature & Science officials have also determined that, pursuant to 25 U.S.C. 3001 (3)(A), the three objects described above are reasonably believed to have been placed with or near individual human remains at the time of death or later as part of the death rite or ceremony. Lastly, officials of the Denver Museum of Nature & Science officials have also determined that, pursuant to 25 U.S.C. 3001 (2), there is a relationship of shared group identity that can be reasonably traced between the Native American human remains and associated funerary objects and the Picayune Rancheria of Chukchansi Indians of California; Santa Rosa Indian Community of the Santa Rosa Rancheria, California; Table Mountain Rancheria of California; and Tule River Indian Tribe of the Tule River Reservation, California.

Representatives of any other Indian tribe that believes itself to be culturally affiliated with the human remains and associated funerary objects should contact Dr. Chip Colwell-Chanthaphonh, Denver Museum of Nature & Science, 2001 Colorado Boulevard, Denver, CO 80205, telephone (303) 370-6378, before March 26, 2008. Repatriation of the human remains and associated funerary objects to the Picayune Rancheria of Chukchansi Indians of California; Santa Rosa Indian Community of the Santa Rosa Rancheria, California; Table Mountain Rancheria of California; and Tule River Indian Tribe of the Tule River Reservation, California may proceed after that date if no additional claimants come forward.

The Denver Museum of Nature & Science is responsible for notifying the Picayune Rancheria of Chukchansi Indians of California; Santa Rosa Indian Community of the Santa Rosa Rancheria, California; Table Mountain Rancheria of California; and Tule River Indian Tribe of the Tule River Reservation, California that this notice has been published.

Dated: January 22, 2008
Sherry Hutt,
Manager, National NAGPRA Program.

[FR Doc. E8-3456 Filed 2-22-08; 8:45 am]

BILLING CODE 4312-50-S